DEPARTMENT OF ENERGY

Federal Energy Regulatory Commission

[Project No. 2088-068]

South Feather Water and Power Agency; Notice of Technical Conference and Environmental Site Review

Commission staff will hold an environmental site review (site review) on March 21, 2024, and a technical conference on March 22, 2024, on South Feather Water and Power Agency's (licensee, SFWPA) proposed relicensing of the South Feather Power Project No. 2088 (project). The project is located on the South Fork Feather River, Lost Creek, and Slate Creek, in Butte, Yuba, and Plumas Counties, California.

All local, State, and Federal agencies, Tribes, non-governmental organizations, and other interested parties and individuals are invited to participate in the site review and/or technical conference.

Environmental Site Review

On Thursday, March 21, 2024, Commission staff and SFWPA will conduct an environmental site review (i.e., tour) of the project starting at 9 a.m. (Pacific standard time, PST) and ending by 4:30 p.m. (PST).

The site review will primarily focus on project diversions and other facilities relevant to the technical conference (see below). All participants are responsible for their own transportation to and from the project and during the site review. Four-wheel drive or all-wheel drive vehicles with adequate ground clearance are necessary to traverse project roads.

Interested participants must meet at SFWPA's Power Division Headquarters located at: 5494 Forbestown Road, Forbestown, California 95941, where the site review will begin. Participants should arrive sufficiently early for coordination purposes, so that the site review may begin on time. Additionally, participants should wear sturdy, closed-toe shoes or boots, and dress seasonally appropriate for any potential weather. Please note that the project is located in a remote area with limited amenities or public restrooms; therefore, participants should prepare accordingly and bring water, snacks, etc.

Technical Conference

On Friday, March 22, 2024, from 10 a.m. to 2 p.m. (PST), Commission staff will hold a technical conference. The technical conference will be located at SFWPA's Water Division Headquarters located at: 2310 Oro-Quincy Hwy, Oroville, California 95966.

The purpose of the technical conference is to discuss potential project effects on federally listed species including the threatened North Feather distinct population of the foothill yellow-legged frog (FYLF). Discussions to inform staff's environmental analysis will include the following items: (1) results of FYLF surveys in project-affected reaches; (2) the timing and magnitude of flow fluctuations resulting from current project operations; (3) potential measures to minimize effects of flow fluctuations during the FYLF reproductive season; (4) the feasibility of implementing potential interim ramping rates with existing infrastructure; and (5) the limitations of any potential ramping rates to protect FYLF populations.

The technical conference will be recorded by an independent stenographer. Transcripts of the technical conference will be placed on the public record for the project and will be available to view on the Commission's website (http://www.ferc.gov), using the “eLibrary” link.

If you are interested in attending or have questions regarding the environmental site review or technical conference, please RSVP Kristen McKillop with SFWPA at kmckillop@southfeather.com or (530) 532-1348 on or before March 14, 2024.

For questions on procedural matters related to relicensing the South Feather Power Project, you may contact Quinn Emmering, the Commission's relicensing coordinator for the project, at (202) 502-6382 or Quinn.Emmering@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 15, 2024.
Debbie-Anne A. Reese,
Acting Secretary.

[FR Doc. 2024-03611 Filed 2-21-24; 8:45 am]

BILLING CODE 6717-01-P